DEPARTMENT OF EDUCATION

34 CFR Chapter III

[ED-2025-OESE-0021]

Final Waiver and Extension of the Project Period With Funding for Arts in Education National Program

AGENCY: Office of Elementary and Secondary Education (OESE), Department of Education.

ACTION: Final waiver and extension of project period with funding.

SUMMARY: The Secretary waives the requirements in the Education Department General Administrative Regulations that generally prohibit extensions involving the obligation of additional Federal funds. The waiver and extension enable one project under Assistance Listing Number (ALN) 84.351A to receive funding for an additional period, not to exceed September 30, 2026.

DATES: The waiver and extension of the project period are effective July 28, 2025.

FOR FURTHER INFORMATION CONTACT: Simon Earle, U.S. Department of Education, 400 Maryland Avenue SW, Washington, DC 20202-5076. Telephone: 202-453-7923. Email: assistanceforartseducation@ed.gov.

If you are deaf, hard of hearing, or have a speech disability and wish to access telecommunications relay services, please dial 7-1-1.

SUPPLEMENTARY INFORMATION:

Background

On May 20, 2025, the Department published a notice in the Federal Register (90 FR 21441) proposing a waiver and extension of the project period with funding in order to enable one project under ALN 84.351A to receive continuation funding for an additional 12-month period, not to exceed September 30, 2026. The proposed waiver and extension of the project period with funding would allow the Department to comply with the directive in the Full-Year Continuing Appropriations and Extensions Act, 2025 and align with the dates of the Assistance for Arts Education (AAE) awards funded in FY 2021 under ALN 84.351A, which are scheduled to receive their final year of funding in FY 2025, and end on September 30, 2026. The waiver will allow the Department to issue a continuation award in FY 2025, as directed by Congress, to the currently funded 84.351A Arts in Education National Program (AENP) project at an amount consistent with the amount awarded in FY 2024.

There are no differences between the notice of proposed waiver and extension of the project period with funding and this notice of final waiver and extension of the project period with funding, as discussed in the Analysis of Comments and Changes section of this document.

Public Comment: In response to our invitation in the notice of proposed waiver and extension of the project period with funding, five parties submitted a comment.

Generally, we do not address technical and other minor changes or suggested changes the law does not authorize us to make under the applicable statutory authority. In addition, we do not address general comments that raised concerns not directly related to the proposed waiver and extension with funding.

Analysis of Comments and Changes

An analysis of the comments and of any changes in the priority since publication of the notice of proposed waiver and extension of the project period with funding follows.

Comment: Two commenters submitted comments that were not relevant to the waiver and extension.

Discussion: The Department does not address general comments not directly related to the proposed waiver and extension with funding.

Change: None.

Comment: Three commenters submitted comments in support of the extension of funding stating the funding is necessary to advance students' artistic development and to develop well-rounded students.

Discussion: We appreciate the commenters' support for the funding extension for AENP and agree that funding this extension will continue to advance students' artistic development.

Change: None.

Final Waiver and Extension of the Project Period With Funding

The Department intends to comply with the directive in the Full-Year Continuing Appropriations and Extensions Act, 2025 and align with the dates of the AAE awards funded in FY 2021 under ALN 84.351A, which are scheduled to receive their final year of funding in FY 2025, and end on September 30, 2026.

Consequently, the Secretary waives the requirements in 34 CFR 75.261(a) and (b)(2), which allow the extension of a project period only if the extension does not involve the obligation of additional Federal funds. This waiver allows the Department to issue a one-year FY 2025 continuation award to the currently funded 84.351A project at an amount consistent with the amount awarded in FY 2024.

Any activities carried out during the year of this continuation award must be consistent with, or a logical extension of, the scope, goals, and objectives of the grantee's application as approved in the FY 2022 competition. The requirements for continuation awards are set forth in 34 CFR 75.253.

Regulatory Flexibility Act Certification

The Secretary certifies that this proposed regulatory action would not have a substantial economic impact on a substantial number of small entities.

The U.S. Small Business Administration Size Standards define proprietary institutions as small businesses if they are independently owned and operated, are not dominant in their field of operation, and have total annual revenue below $7,000,000. Nonprofit institutions are defined as small entities if they are independently owned and operated and not dominant in their field of operation. Public institutions are defined as small organizations if they are operated by a government overseeing a population below 50,000.

Paperwork Reduction Act of 1995

This notice of final waiver and extension of the project period with funding does not contain any information collection requirements.

Intergovernmental Review

This action is subject to Executive Order 12372 and the regulations in 34 CFR part 79.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Hayley B. Sanon,
Principal Deputy Assistant Secretary and Acting Assistant Secretary, Office of Elementary and Secondary Education.

[FR Doc. 2025-14188 Filed 7-25-25; 8:45 am]

BILLING CODE 4000-01-P